DEPARTMENT OF ENERGY

Federal Energy Regulatory Commission

Combined Notice of Filings #1

Take notice that the Commission received the following electric corporate filings:

Docket Numbers: EC15-70-000.

Applicants: Utah Red Hills Renewable Park, LLC.

Description: Clarification to February 6, 2015 Application for Authorization for Disposition of Jurisdictional Facilities and Requests for Waivers and Confidential Treatment of Utah Red Hills Renewable Park, LLC.

Filed Date: 5/12/15.

Accession Number: 20150512-5089.

Comments Due: 5 p.m. ET 5/22/15.

Docket Numbers: EC15-137-000.

Applicants: ALLETE Clean Energy, Inc., MWW Holdings, LLC,AES Armenia Mountain Wind, LLC.

Description: Joint Application for FPA Section 203 Authorization and Request for Expedited Consideration, Confidential Treatment, and Waivers of AES Armenia Mountain Wind, LLC, ALLETE Clean Energy, Inc., and MWW Holdings, LLC.

Filed Date: 5/11/15.

Accession Number: 20150511-5236.

Comments Due: 5 p.m. ET 6/1/15

Docket Numbers: EC15-138-000.

Applicants: DTE Electric Company, DTE East China, LLC.

Description: Application for Disposition of Jurisdictional Facilities, Request for Confidential Treatment, and Request for Expedited Consideration of DTE Electric Company, et al.

Filed Date: 5/11/15.

Accession Number: 20150511-5220.

Comments Due: 5 p.m. ET 6/1/15.

Take notice that the Commission received the following electric rate filings:

Docket Numbers: ER13-83-008.

Applicants: Duke Energy Progress, Inc., Duke Energy Carolinas, LLC.

Description: Compliance filing per 35: SERTP Fourth Regional Compliance Filing to be effective 6/1/2014.

Filed Date: 5/12/15.

Accession Number: 20150512-5054.

Comments Due: 5 p.m. ET 6/2/15.

Docket Numbers: ER13-897-005.

Applicants: Louisville Gas and Electric Company.

Description: Compliance filing per 35: Order No. 1000 SERTP Regional Compliance Filing to be effective6/1/2014.

Filed Date: 5/12/15.

Accession Number: 20150512-5133.

Comments Due: 5 p.m. ET 6/2/15.

Docket Numbers: ER13-908-005.

Applicants: Alabama Power Company.

Description: Compliance filing per 35: Order No. 1000 Fourth Regional Compliance Filing to be effective6/1/2014.

Filed Date: 5/12/15.

Accession Number: 20150512-5090.

Comments Due: 5 p.m. ET 6/2/15.

Docket Numbers: ER15-1516-000.

Applicants: AES WR Limited Partnership.

Description: Baseline eTariff Filing per 35.1: AES WR Rate Schedule 1 Filing to be effective 6/15/2015.

Filed Date: 4/15/15.

Accession Number: 20150415-5300.

Comments Due: 5 p.m. ET 5/22/15.

Docket Numbers: ER15-1562-001.

Applicants: PJM Interconnection, L.L.C.

Description: Tariff Amendment per 35.17(b): Errata Filing to Resubmit Original Service Agreement No. 4127 to be effective 12/31/9998.

Filed Date: 5/11/15.

Accession Number: 20150511-5116.

Comments Due: 5 p.m. ET 6/1/15.

Docket Numbers: ER15-1692-000.

Applicants: AEP Texas Central Company.

Description: AEP Texas Central Company submits letter notifying FERC of the Notice of Cancellation of FERC Rate Schedule No. 70 with the City of Robstown, Texas.

Filed Date: 5/11/15.

Accession Number: 20150511-0003.

Comments Due: 5 p.m. ET 6/1/15.

Docket Numbers: ER15-1693-000.

Applicants: AEP Texas North Company.

Description: AEP Texas North Company submits letter notifying FERC of the Notice of Cancellation of FERC WTU Tariff No. 1 SA No. 17 with the City of Brady, Texas.

Filed Date: 5/11/15.

Accession Number: 20150511-0002.

Comments Due: 5 p.m. ET 6/1/15.

Docket Numbers: ER15-1695-000.

Applicants: Midcontinent Independent System Operator, Inc.

Description: § 205(d) rate filing per 35.13(a)(2)(iii): 2015-05-12_SA 2693 NSP-Black Oak Wind 2nd Rev GIA (G858/H071) to be effective 5/13/2015.

Filed Date: 5/12/15.

Accession Number: 20150512-5092.

Comments Due: 5 p.m. ET 6/2/15.

Docket Numbers: ER15-1696-000.

Applicants: Pacific Gas and Electric Company.

Description: Notice of Termination of Large Generator Interconnection Agreement, Service Agreement No. 136 under Tariff Volume No. 5 of Pacific Gas and Electric Company.

Filed Date: 5/12/15.

Accession Number: 20150512-5098.

Comments Due: 5 p.m. ET 6/2/15.

Docket Numbers: ER15-1697-000.

Applicants: Ohio Valley Electric Corporation.

Description: Compliance filing per 35: Order 1000 Reginal Compliance Filing Transmission Planning Process to be effective 6/1/2015.

Filed Date: 5/12/15.

Accession Number: 20150512-5126.

Comments Due: 5 p.m. ET 6/2/15.

Docket Numbers: ER15-1698-000.

Applicants: Southern California Edison Company.

Description: § 205(d) rate filing per 35.13(a)(2)(iii): GIA and DSA for SunEdison Quarry Street Project to be effective 7/12/2015.

Filed Date: 5/12/15.

Accession Number: 20150512-5144.

Comments Due: 5 p.m. ET 6/2/15.

Docket Numbers: ER15-1699-000.

Applicants: Southern California Edison Company.

Description: § 205(d) rate filing per 35.13(a)(2)(iii): Service Agreement for Wholesale Distribution Service to be effective 7/12/2015.

Filed Date: 5/12/15.

Accession Number: 20150512-5146.

Comments Due: 5 p.m. ET 6/2/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2015.
Nathaniel J. Davis, Sr.,
Deputy Secretary.

[FR Doc. 2015-11924 Filed 5-15-15; 8:45 am]

BILLING CODE 6717-01-P